DEPARTMENT OF HEALTH AND HUMAN SERVICES

Centers for Disease Control and Prevention

National Task Force on Fetal Alcohol Syndrome and Fetal Alcohol Effect: Notice of Charter Renewal

This gives notice under the Federal Advisory Committee Act (Public Law 92-463) of October 6, 1972, that the National Task Force on Fetal Alcohol Syndrome and Fetal Alcohol Effect, Centers for Disease Control and Prevention of the Department of Health and Human Services, has been renewed for a 2-year period extending through May 17 2004.

For further information, contact Dixie E. Snider, Jr., M.D., Acting Executive Secretary, National Task Force on Fetal Alcohol Syndrome and Fetal Alcohol Effect, 1600 Clifton Road, NE, m/s D-50, Atlanta, Georgia 30333. Telephone 404/639-7240, or fax 404/639-7341.

The Director, Management Analysis and Services Office, has been delegated the authority to sign Federal Register notices pertaining to announcements of meetings and other committee management activities, for both the Centers for Disease Control and Prevention and the Agency for Toxic Substances and Disease Registry.

Dated: May 17, 2002.
John Burckhardt,
Acting Director, Management Analysis and Services Office, Centers for Disease Control and Prevention.

[FR Doc. 02-13071 Filed 5-23-02; 8:45 am]

BILLING CODE 4163-18-P